DEPARTMENT OF TRANSPORTATION

Federal Aviation Administration

14 CFR Part 39

[Docket No. FAA-2024-0773; Project Identifier MCAI-2023-00256-R; Amendment 39-22835; AD 2024-18-01]

RIN 2120-AA64

Airworthiness Directives; Leonardo S.p.a. Helicopters

AGENCY: Federal Aviation Administration (FAA), DOT.

ACTION: Final rule.

SUMMARY: The FAA is superseding Airworthiness Directive (AD) 2021-22-05, which applied to all Leonardo S.p.a. (Leonardo) Model A119 and AW119 MKII helicopters. AD 2021-22-05 required repetitively inspecting certain torque tube assemblies for any deficiency and corrective action if necessary, and replacing any affected part with a serviceable part, which was terminating action for the repetitive inspections. AD 2021-22-05 was prompted by reports of abnormal play on the collective torque tube on two Leonardo Model AW119 MKII helicopters, which were due to an erroneous manufacturing process. Since the FAA issued AD 2021-22-05, it was discovered that additional torque tube assemblies are subject to the unsafe condition. This AD retains certain requirements specified in AD 2021-22-05, reduces the applicability to include helicopters with only affected part-numbered collective torque tube assemblies, reduces the inspection intervals, and removes the previously approved terminating action. These requirements are specified in a European Union Aviation Safety Agency (EASA) AD, which is incorporated by reference. The FAA is issuing this AD to address the unsafe condition on these products.

DATES: This AD is effective November 12, 2024.

The Director of the Federal Register approved the incorporation by reference of a certain publication listed in this AD as of November 12, 2024.

ADDRESSES:

AD Docket: You may examine the AD docket at regulations.gov under Docket No. FAA-2024-0773; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; internet easa.europa.eu. You may find the EASA material on the EASA website at ad.easa.europa.eu.

• You may view this EASA material at the FAA, Office of the Regional Counsel, Southwest Region, 10101 Hillwood Pkwy., Room 6N-321, Fort Worth, TX 76177. For information on the availability of this material at the FAA, call (817) 222-5110. It is also available at regulations.gov under Docket No. FAA-2024-0773.

Other Related Material: For Leonardo material identified in this AD, contact Leonardo S.p.A., Emanuele Bufano, Head of Airworthiness, Viale G. Agusta 520, 21017 C. Costa di Samarate (Va) Italy; telephone (+39) 0331-225074; fax (+39) 0331-229046; or at customerportal.leonardocompany.com/en-US/.

FOR FURTHER INFORMATION CONTACT: Sungmo Cho, Aviation Safety Engineer, FAA,1600 Stewart Ave., Suite 410, Westbury, NY 11590; phone: (781) 238-7241; email: Sungmo.D.Cho@faa.gov.

SUPPLEMENTARY INFORMATION:

Background

The FAA issued a notice of proposed rulemaking (NPRM) to amend 14 CFR part 39 to supersede AD 2021-22-05, Amendment 39-21778 (86 FR 67301, November 26, 2021) (AD 2021-22-05). AD 2021-22-05 applied to all Leonardo Model A119 and AW119 MKII helicopters. AD 2021-22-05 required repetitive inspections of certain batches of affected torque tube assemblies for any deficiency and corrective action if necessary; and the replacement of any affected part with a serviceable part, which is terminating action for the repetitive inspections. The FAA issued AD 2021-22-05 to address abnormal play on the collective torque tube, which could result in reduced control of the helicopter, resulting in a forced landing and consequent damage to the helicopter and injury to occupants.

The NPRM published in the Federal Register on April 12, 2024 (89 FR 25825). The NPRM was prompted by EASA AD 2023-0035, dated February 10, 2023 (EASA AD 2023-0035) (also referred to as the MCAI), issued by EASA, which is the Technical Agent for the Member States of the European Union. The NPRM was prompted by additional occurrences of abnormal play on parts not previously included in the affected batches of torque tube assemblies. In light of this, Leonardo issued updated material and EASA issued EASA AD 2023-0035 to reduce the applicability to include helicopters with only affected part-numbered collective torque tube assemblies, reduce the inspection intervals, and simplify the inspection method.

In the NPRM, the FAA proposed to reduce the applicability to include helicopters with only affected all part-numbered collective torque tube assemblies. In the NPRM, the FAA also proposed to retain certain requirements of AD 2021-22-05 and require accomplishing the actions specified in EASA AD 2023-0035 except for any differences identified as exceptions in the regulatory text of this AD.

You may examine the MCAI in the AD docket at regulations.gov under Docket No. FAA-2024-0773.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

EASA AD 2023-0035 requires repetitive inspections of the affected torque tube assemblies for any deficiency (i.e., any abnormal play or relative rotation) by marking the torque tube assembly and the collar and applying specific loads to determine if there is any play; and depending on the results of these inspections replacing the torque tube assembly with a serviceable part.

This material is reasonably available because the interested parties have access to it through their normal course of business or by the means identified in ADDRESSES.

Other Related Material

The FAA reviewed Leonardo Helicopters Alert Service Bulletin No. 119-098, Revision B, dated January 25, 2023. This material specifies procedures for inspecting the collective torque tube assembly for abnormal play and specifies instructions for replacing affected parts.

Costs of Compliance

The FAA estimates that this AD affects 184 helicopters of U.S. registry. Labor costs are estimated at $85 per work-hour. Based on these numbers, the FAA estimates the following costs to comply with this AD.

Inspecting the torque tube assembly inspection takes about 1 work-hour for an estimated cost of $85 per inspection and $15,640 for the U.S. fleet per inspection cycle.

The FAA estimates the following costs to do any necessary replacements that are required based on the results of the required inspections. The agency has no way of determining the number of helicopters that might need these replacements.

If required, replacing the torque tube assembly takes about 16 work-hours and parts cost $10,000 for an estimated cost of $11,360 per torque tube assembly replacement.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-22-05, Amendment 39-21778 (86 FR 67301, November 26, 2021); and

b. Adding the following new airworthiness directive:

2024-18-01 Leonardo S.p.a.; Amendment 39-22835; Docket No. FAA-2024-0773; Project Identifier MCAI-2023-00256-R.

(a) Effective Date

This airworthiness directive (AD) is effective November 12, 2024.

(b) Affected ADs

This AD replaces AD 2021-22-05, Amendment 39-21778 (86 FR 67301, November 26, 2021).

(c) Applicability

This AD applies to Leonardo S.p.a. Model A119 and AW119 MKII helicopters, certificated in any category, as identified in European Union Aviation Safety Agency AD 2023-0035, dated February 10, 2023 (EASA AD 2023-0035).

(d) Subject

Joint Aircraft System Component (JASC) Code 6700: Rotorcraft Flight Control.

(e) Unsafe Condition

This AD was prompted by reports of abnormal play on the collective torque tube assemblies. The FAA is issuing this AD to address this unsafe condition which could result in reduced control of the helicopter, resulting in a forced landing and consequent damage to the helicopter and injury to occupants.

(f) Compliance

Comply with this AD within the compliance times specified, unless already done.

(g) Requirements

Except as specified in paragraphs (h) and (i) of this AD: Comply with all required actions and compliance times specified in, and in accordance with EASA AD 2023-0035.

(h) Exceptions to EASA AD 2023-0035

(1) Where EASA AD 2023-0035 requires compliance in terms of flight hours, this AD requires using hours time-in-service.

(2) Where EASA AD 2023-0035 refers to April 14, 2021 (the effective date of EASA AD 2021-0096, dated March 31, 2021), this AD requires using January 3, 2022 (the effective date of AD 2021-22-05).

(3) Where EASA AD 2023-0035 refers to its effective date, this AD requires using the effective date of this AD.

(4) Where the material referenced in paragraphs (1) and (2) of EASA AD 2023-0035 specifies “in case of doubt” apply marks on both sides of the torque tube assembly, move the pilot collective stick lever, and verify that the markings stay aligned, this AD requires those actions.

(5) Instead of the credit allowed in paragraph (4) of EASA AD 2023-0035, you may take credit for the following in paragraphs (h)(5)(i) through (iii) of this AD, as applicable.

(i) The inspections required by paragraph (1) of EASA AD 2023-0035 that have been accomplished before the effective date of this AD using Leonardo Helicopters Alert Service Bulletin No. 119-098, dated March 13, 2019 (ASB 119-098, original issue) but this credit is limited to the torque tube assembly batch numbers identified in ASB 119-098, original issue.

(ii) The inspections required by paragraph (1) of EASA AD 2023-0035 that have been accomplished before the effective date of this AD using Leonardo Helicopters ASB No. 119-098, Revision A, dated March 31, 2021 (ASB 119-098, Revision A) but this credit is limited to the torque tube assembly batch numbers identified in ASB 119-098, Revision A.

(iii) Replacing an affected part, as defined in EASA AD 2023-0035, with a serviceable part, as defined in EASA AD 2023-0035, required by paragraph (3) of EASA AD 2023-0035 that has been accomplished before the effective date of this AD using ASB 119-098, original issue; or ASB 119-098, Revision A.

(6) Where the material referenced in EASA AD 2023-0035 specifies to return a torque tube assembly to the manufacturer, this AD does not include that requirement.

(7) This AD does not adopt the “Remarks” section of EASA AD 2023-0035.

(i) No Reporting Requirement

Although the material referenced in EASA AD 2023-0035 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (k) of this AD or email to AMOC@faa.gov. If mailing information, also submit information by email.

(2) Before using any approved AMOC, notify your appropriate principal inspector, or lacking a principal inspector, the manager of the local Flight Standards District Office/certificate holding district office.

(k) Additional Information

For more information about this AD, contact Sungmo Cho, Aviation Safety Engineer, FAA, 1600 Stewart Ave., Suite 410, Westbury, NY 11590; phone: (781) 238-7241; email: Sungmo.D.Cho@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0035, dated February 10, 2023.

(ii) [Reserved]

(3) For EASA material identified in this AD, contact EASA, Konrad-Adenauer-Ufer 3, 50668 Cologne, Germany; telephone +49 221 8999 000; email ADs@easa.europa.eu; internet easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on August 28, 2024.
Victor Wicklund,
Deputy Director, Compliance & Airworthiness Division, Aircraft Certification Service.

[FR Doc. 2024-23065 Filed 10-4-24; 8:45 am]

BILLING CODE 4910-13-P